DEPARTMENT OF TRANSPORTATION

Federal Aviation Administration

14 CFR Part 39

[Docket No. 2001-NM-302-AD; Amendment 39-13477; AD 2004-03-33]

RIN 2120-AA64

Airworthiness Directives; Airbus Model A300 B2 and B4 Series Airplanes; Model A300 B4-600, A300 B4-600R, and A300 F4-600R Series Airplanes (Collectively Called A300-600); Model A310 Series Airplanes; Model A319, A320, and A321 Series Airplanes; Model A330-301, -321, -322, -341, and -342 Airplanes; and Model A340 Series Airplanes

AGENCY: Federal Aviation Administration, DOT.

ACTION: Final rule.

SUMMARY: This amendment adopts a new airworthiness directive (AD), applicable to certain Airbus Model A300 B2 and B4 series airplanes; Model A300 B4-600, A300 B4-600R, and A300 F4-600R series airplanes (collectively called A300-600); Model A310 series airplanes; Model A319, A320, and A321 series airplanes; Model A330-301, -321, -322, -341, and -342 airplanes; and Model A340 series airplanes. This AD requires, among other actions, replacement of certain pitot probes with certain new pitot probes. The actions specified by this AD are intended to prevent loss or fluctuation of indicated airspeed, which could result in misleading information being provided to the flightcrew. This action is intended to address the identified unsafe condition.

DATES: Effective April 7, 2004.

The incorporation by reference of certain publications listed in the regulations is approved by the Director of the Federal Register as of April 7, 2004.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300 B2 and B4 series airplanes; Model A300 B4-600, A300 B4-600R, and A300 F4-600R series airplanes (collectively called A300-600); Model A310 series airplanes; Model A319, A320, and A321 series airplanes; Model A330-301, -321, -322, -341, and -342 airplanes; and Model A340 series airplanes; was published as a supplemental notice of proposed rulemaking (NPRM) in the Federal Register on June 12, 2003 (68 FR 35186). That action proposed to require, among other actions, replacement of certain pitot probes with certain new pitot probes.

Comments

Interested persons have been afforded an opportunity to participate in the making of this amendment. Due consideration has been given to the comments received.

Support for the Proposed AD

Several commenters concur with the proposed AD.

Request To Refer to Latest Service Information

One commenter requests that the FAA revise the proposed AD to refer to Airbus Service Bulletin A320-34-1127, Revision 01, dated December 4, 2001, instead of the original issue of that service bulletin. (Paragraph (f) of the supplemental NPRM refers to the original issue of Airbus Service Bulletin A320-34-1127, dated April 24, 1997, as the acceptable source of service information for the accomplishment of the actions in that paragraph.) The commenter notes that the Accomplishment Instructions in Revision 01 have not been revised from those in the original issue; thus, either issue of the service bulletin should be acceptable.

We concur with the commenter's request and have revised paragraph (f) of this final rule to refer to Revision 01 of the service bulletin, and to state that replacement of the pitot probes before the effective date of this AD per the original issue of Airbus Service Bulletin A320-34-1127 is acceptable for compliance with that paragraph. Also, we have revised the applicability statement of this final rule to refer to Revision 01 in addition to the original issue of the service bulletin as the service bulletin associated with Airbus Modification 25998.

Also, we have determined that Airbus has issued the following revised service bulletins, and we have revised “Table 1—Applicability” of this AD to refer to all of these revisions:

• Service Bulletin A300-34-6116, Revision 03, dated June 6, 2003. That service bulletin contains procedures that are essentially the same as those in Revision 02 of the service bulletin, dated May 25, 2000, which paragraph (a)(1) of the supplemental NPRM refers to as an acceptable source of service information for accomplishing the actions in that paragraph on Model A300 B4-600, A300 B4-600R, and A300 F4-600R series airplanes. Accordingly, we have revised paragraph (a)(1) of this final rule to refer to Revision 03 of the service bulletin, while giving credit for actions accomplished previously per the original issue of the service bulletin, dated June 19, 1998; Revision 01, dated August 7, 1998, or Revision 02.

• Airbus Service Bulletin A310-34-2137, Revision 03, dated June 6, 2003. That service bulletin contains procedures that are essentially the same as those in Revision 02 of the service bulletin, dated May 25, 2000, which paragraph (a)(1) of the supplemental NPRM refers to as an acceptable source of service information for accomplishing the actions in that paragraph on Model A310 series airplanes. Accordingly, we have revised paragraph (a)(1) of this final rule to refer to Revision 03 of the service bulletin, while giving credit for actions accomplished previously per Revision 02.

• Service Bulletin A300-32-052, Revision 2, dated September 10, 1981. That service bulletin contains procedures that are essentially the same as those in the original issue of that service bulletin, dated November 15, 1976, which paragraph (d) of the supplemental NPRM refers to as an acceptable source of service information for the actions in that paragraph. Accordingly, we have revised paragraph (d) of this final rule to refer to Revision 2 of the service bulletin, while giving credit for actions accomplished previously per the original issue of the service bulletin.

• Airbus Service Bulletin A300-22-031, Revision 1, dated February 9, 1981. That service bulletin contains procedures that are essentially the same as those in the original issue of that service bulletin, dated June 25, 1979, which paragraph (e) of the supplemental NPRM refers to as an acceptable source of service information for the actions in that paragraph. Accordingly, we have revised paragraph (e) of this final rule to refer to Revision 1 of the service bulletin, while giving credit for actions accomplished previously per the original issue of the service bulletin.

• Service Bulletin A330-34-3038, Revision 01, dated September 14, 2001. That service bulletin contains procedures that are essentially the same as those in the original issue of that service bulletin, dated November 19, 1996, which paragraph (g)(1) of the supplemental NPRM refers to as an acceptable source of service information for the actions in that paragraph. Accordingly, we have revised paragraph (g)(1) of this final rule to refer to Revision 01 of the service bulletin, while giving credit for actions accomplished previously per the original issue of the service bulletin.

• Service Bulletin A330-34-3071, Revision 01, dated May 30, 2001. That service bulletin contains procedures that are essentially the same as those in the original issue of that service bulletin, dated December 11, 1998, which paragraph (g)(2) of the supplemental NPRM refers to as an acceptable source of service information for the actions in that paragraph. Accordingly, we have revised paragraph (g)(2) of this final rule to refer to Revision 01 of the service bulletin, while giving credit for actions accomplished previously per the original issue of the service bulletin.

• Service Bulletin A340-34-4042, Revision 01, dated September 14, 2001. That service bulletin contains procedures that are essentially the same as those in the original issue of that service bulletin, dated November 19, 1996, which paragraph (h)(1) of the supplemental NPRM refers to as an acceptable source of service information for the actions in that paragraph. Accordingly, we have revised paragraph (h)(1) of this final rule to refer to Revision 01 of the service bulletin, while giving credit for actions accomplished previously per the original issue of the service bulletin.

• Service Bulletin A340-34-4079, Revision 06, dated April 1, 2003. That service bulletin contains procedures that are essentially the same as those described in the original issue of the service bulletin, which paragraph (h)(2) of the supplemental NPRM refers to as an appropriate source of service information for the actions required by that paragraph. Accordingly, we have revised paragraph (h)(2) of this final rule to refer to Revision 06 of the service bulletin, while giving credit for actions accomplished previously per the original issue of the service bulletin, dated December 11, 1998; Revision 01, dated May 27, 1999; Revision 02, dated October 6, 1999; Revision 03, dated March 12, 2002; Revision 04, dated June 19, 2002; or Revision 05, dated July 30, 2002.

Request To Revise Paragraph Reference

One commenter requests that paragraph (b) of the supplemental NPRM be revised to state that compliance is required “before or concurrently with the requirements of paragraph (a)(1).” Paragraph (b) of the supplemental NPRM states that compliance is required “before or concurrently with the requirements of paragraph (a)(2).” The commenter correctly notes that paragraph (b) applies to Model A300 B2 and B4 series airplanes, while paragraph (a)(2) refers to Model A300 B4-600R, A310-203, and A310-304 series airplanes. Paragraph (a)(1) applies to Model A300 B2 and B4 series airplanes (among other models).

We concur with the commenter's request. The reference to paragraph (a)(2) in paragraph (b) of the supplemental NPRM was a typographical error. We have corrected this error in paragraph (b) of this final rule.

Request for Credit for Accomplishment of Modification in Production

One commenter requests that we revise the supplemental NPRM to provide credit for accomplishment, during production, of Airbus Modification 2435 in lieu of accomplishment of the actions in Airbus Service Bulletin A300-34-069, Revision 5, dated April 8, 1982, as revised by Airbus A300 Service Bulletin Change Notice 5A, dated February 16, 1987, as would be required by paragraph (b) of the proposed AD. The commenter also requests that we provide credit for accomplishment of earlier revisions of Airbus Service Bulletin A300-34-069.

We partially concur with the commenter's request. We have revised paragraph (b) of this final rule to state that “Accomplishment during production of Airbus Modification 2435 is acceptable for compliance.” With regard to providing credit for accomplishment of earlier revisions of Airbus Service Bulletin A300-34-069, we acknowledge that certain earlier revisions of that service bulletin may be acceptable for compliance with corresponding requirements of this AD. However, certain older revisions of service bulletins are unavailable to us; therefore, we are unable to verify whether they are acceptable for compliance. An operator may request approval of an alternative method of compliance with this AD, provided that the operator submits a copy of the revision of the service bulletin for which credit is sought with the request. We have made no further change in this regard.

Explanation of Additional Changes to the Proposed AD

“Table—Applicability” in the proposed AD has been re-identified as “Table 1—Applicability” in this final rule.

Also, we have revised “Table 1—Applicability” to correct the dates for various revisions of Airbus Service Bulletin A320-34-1170, which were listed incorrectly in the supplemental NPRM.

Conclusion

After careful review of the available data, including the comments noted above, the FAA has determined that air safety and the public interest require the adoption of the rule with the changes previously described. The FAA has determined that these changes will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the supplemental NPRM regarding that material.

Change to Labor Rate Estimate

Since we issued the supplemental NPRM, we have reviewed the figures we have used over the past several years to calculate AD costs to operators. To account for various inflationary costs in the airline industry, we find it necessary to increase the labor rate used in these calculations from $60 per work hour to $65 per work hour. The cost impact information, below, reflects this increase in the specified hourly labor rate.

Cost Impact

We estimate that 559 Model A300 B2 and B4 series airplanes; Model A300 B4-600, A300 B4-600R, and A300 F4-600R series airplanes (collectively called A300-600); Model A310 series airplanes; Model A319, A320, and A321 series airplanes; and Model A330-301, -321, -322, -341, and -342 series airplanes; of U.S. registry will be affected by this AD. “Table—Cost Figures” shows the estimated cost figures for certain airplanes affected by this AD. The average labor rate is $65 per work hour.

Table—Estimated Cost Figures
Model | U.S.-registered airplanes | Work hours | Parts cost | Total cost
A300 B2 and A300 B4 | 24 | Between 3 and 631 | Between $120 and $56,669 per airplane (depending on airplane configuration) | Between $7,560 and $2,344,416; or $315 and $97,684 per airplane (depending on airplane configuration)
A300 B4-600, A300 B4-600R, and A300 F4-600R (collectively called A300-600) | 83 | 3 | $5,700 | $489,285, or $5,895 per airplane
A310 | 46 | 3 | $5,700 or $5,856 (depending on airplane configuration) | Between $271,170 and $278,346; or $5,895 and $6,051 per airplane (depending on airplane configuration)
A319, A320, and A321 | 397 | 3 | $6,000 | $2,459,415, or $6,195 per airplane
A330-301, -321, -322, -341, and -342 | 9 | 3 | $6,000 or $11,100 (depending on airplane configuration) | Between $55,755 and $101,655; or $6,195 and $11,295 per airplane (depending on airplane configuration)

The cost impact figures discussed in the table above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it will require approximately 3 work hours to accomplish the required actions, at an average labor rate of $65 per work hour. The cost of required parts would be $6,000 or $11,100 (depending on airplane configuration). Based on these figures, the cost impact of this AD on a subject Model A340 series airplane would be $6,195 or $11,295 per airplane (depending on airplane configuration).

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-33 Airbus: Amendment 39-13477. Docket 2001-NM-302-AD.

Applicability: The series airplanes, certificated in any category, listed in Table 1—Applicability.

Table 1.— Applicability
Model and Series— | Excluding Airplanes Modified per— | Excluding Airplanes Equipped With—
A300 B2 and A300 B4 | Airbus Modification 12236 in service (reference Airbus Service Bulletin A300-34-0166, dated March 30, 2001, in service). | None.
A300 B4-600, A300 B4-600R, and A300 F4-600R (collectively called A300-600) | Airbus Modification 11858 in production (reference Airbus Service Bulletin A300 -34-6116, dated June 19, 1998; Revision 01, dated August 7, 1998; Revision 02, dated May 25, 2000; or Revision 03, dated June 6, 2003; in service); or Airbus Modification 12223 in service (reference Airbus Service Bulletin A300-34-6141, dated December 3, 2001; or Revision 01, dated February 20, 2002); and on which concurrent incorporation of Airbus repair procedures to enlarge the holes for the pitot probes was accomplished; in service; or Airbus Modification 12223 in service (reference Airbus Service Bulletin A300-34-6141, Revision 02, dated April 30, 2002; or Revision 03, dated August 27, 2002; in service) | None.
A310 | Airbus Modification 11858 in production (reference Airbus Service Bulletin A310-34-2137, dated June 19, 1998; Revision 01, dated August 7, 1998; Revision 02, dated May 25, 2000; or Revision 03, dated June 06, 2003; in service); or Airbus Modification 12223 in service (reference Airbus Service Bulletin A310-34-2154, dated January 13, 2000; Revision 01, dated April 19, 2000; Revision 02, dated November 05, 2001; or Revision 03, dated January 25, 2002); and on which concurrent incorporation of Airbus repair procedures to enlarge the holes for the pitot probes were accomplished; in service; or Airbus Modification 12223 in service (reference Airbus Service Bulletin A310-34-2154, Revision 04, dated April 30, 2002; Revision 05, dated July 9, 2002; Revision 06, dated August 6, 2002; or Revision 07, dated October 8, 2002; in service) | None.
A319, A320, and A321 | Airbus Modification 25998 in production (reference Airbus Service Bulletin A320-34-1127, dated April 24, 1997; or Revision 01, dated December 4, 2001; in service) | Rosemount (formerly BF Goodrich or New Rosemount) pitot probes part number 0851HL per Airbus Modification 25578 (reference Airbus Service Bulletin A320-34-1170, dated December 18, 1998; Revision 01, dated May 14, 1999; Revision 02, dated December 7, 1999; Revision 03, dated February 17, 2000; Revision 04, dated May 24, 2000; or Revision 05, dated September 11, 2000).
A330-301, -321, -322, -341, and -342 | Airbus Modification 44836 in production (reference Airbus Service Bulletin A330-34-3038, dated November 19, 1996; or Revision 01, dated September 14, 2001; in service); or Airbus Modification 45638 in production (reference Airbus Service Bulletin A330-34-3071, dated December 11, 1998; or Revision 01, dated May 30, 2001; in service) | None.
A340-211, -212, -213, -311, -312, and -313 | Airbus Modification 44836 in production (reference Airbus Service Bulletin A340-34-4042, dated November 19, 1996; or Revision 01, dated September 14, 2001; in service); or Airbus Modification 45638 in production (reference Airbus Service Bulletin A340-34-4079, dated December 11, 1998; Revision 01, dated May 27, 1999; Revision 02, dated October 6, 1999; Revision 03, dated March 12, 2002; Revision 04, dated June 19, 2002; Revision 05, dated July 30, 2002; or Revision 06, dated April 1, 2003; in service) | None.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (i) of this AD. The request should include an assessment of the effect of the modification, alteration, or repair on the unsafe condition addressed by this AD; and, if the unsafe condition has not been eliminated, the request should include specific proposed actions to address it.

Compliance: Required as indicated, unless accomplished previously.

To prevent loss or fluctuation of indicated airspeed, which could result in misleading information being provided to the flightcrew, accomplish the following:

For Model A300 B2 and A300 B4 Series Airplanes; Model A300 B4-600, A300 B4-600R, and A300 F4-600R (Collectively Called A300-600) Series Airplanes; and Model A310 Series Airplanes: Replacement of Pitot Probes With New Pitot Probes

(a) Within 30 months after the effective date of this AD, do the action specified in paragraph (a)(1) or (a)(2) of this AD, as applicable.

(1) For Model A300 B2 and A300 B4 series airplanes; Model A300 B4-600, A300 B4-600R, and A300 F4-600R (collectively called A300-600) series airplanes; and Model A310 series airplanes: Replace the Thales (formerly Sextant) pitot probes from the forward fuselage panel between FR6 and FR7 with new Rosemount (formerly BF Goodrich) pitot probes (including O-rings, gaskets, and nuts), per Airbus Service Bulletin A300-34-0166, dated March 30, 2001 (for Model A300 B2 and B4 series airplanes); Airbus Service Bulletin A300-34-6116, Revision 03, dated June 6, 2003 (for Model A300 B4-600, A300 B4-600R, and A300 F4-600R series airplanes); or Airbus Service Bulletin A310-34-2137, Revision 03, dated June 6, 2003 (for Model A310 series airplanes); as applicable. For Model A300 B4-600, A300 B4-600R, and A300 F4-600R series airplanes, actions accomplished before the effective date of this AD per Airbus Service Bulletin A300-34-6116, dated June 19, 1998; Revision 01, dated August 7, 1998; or Revision 02, dated May 25, 2000; are acceptable for compliance with the corresponding action required by this paragraph. For Model A310 series airplanes: Actions accomplished before the effective date of this AD per Airbus Service Bulletin A310-34-2137, Revision 02, dated May 25, 2000, are acceptable for compliance with the corresponding action required by this paragraph.

(2) For Model A300 B4-600R, A310-203, and A310-304 series airplanes: Replace the Thales (formerly Sextant) pitot probes from the forward fuselage panel between FR6 and FR7 with Thales or Sextant pitot probes (including O-rings, gaskets, and nuts) per Airbus Service Bulletin A300-34-6141, Revision 03, dated August 27, 2002 (for Model A300 B4-600R series airplanes); or Airbus Service Bulletin A310-34-2154, Revision 07, dated October 8, 2002 (for Model A310 series airplanes); as applicable.

For Model A300 B2 and A300 B4 Series Airplanes: Before or Concurrent Requirements

(b) For Model A300 B2 and A300 B4 series airplanes: Before or concurrently with the requirements of paragraphs (a)(1) of this AD, as applicable, replace the Captain's, First Officer's, and standby Badin Crouzet pitot probes in zones 121 and 122 between STA881/FR6 and STA904FR7 with new Badin Crouzet pitot probes (including replacement of O-rings, gaskets, and nuts with new parts; and modification of electrical wiring and equipment of electrical wiring); per Airbus Service Bulletin A300-34-069, Revision 5, dated April 8, 1982, as revised by Airbus A300 Service Bulletin Change Notice 5A, dated February 16, 1987. Accomplishment during production of Airbus Modification 2435 is acceptable for compliance with this paragraph.

(c) For Model A300 B2 and A300 B4 series airplanes, manufacturer's serial numbers 002, 004 through 028 inclusive, 030 through 051 inclusive: Before or concurrently with the requirements of paragraph (b) of this AD, modify the relay box of the automatic ground depression systems by doing all the actions specified in the Accomplishment Instructions of Airbus Service Bulletin A300-21-053, Revision 2, dated January 3, 1980; per the service bulletin.

(d) For Model A300 B2 and A300 B4 series airplanes, manufacturer's serial numbers 002, 005 through 007 inclusive, 009 through 014 inclusive, 016, and 017: Before or concurrently with the requirements of paragraph (c) of this AD, do the actions specified in paragraphs (d)(1) and (d)(2) of this AD per the Accomplishment Instructions of Airbus Service Bulletin A300-32-052, Revision 2, dated September 10, 1981. Actions accomplished before the effective date of this AD per Airbus Service Bulletin A300-32-052, dated November 15, 1976, are acceptable for compliance with the corresponding actions required by this paragraph.

(1) Clean, restore paint coats, and apply mystik tape 7355 to shock strut (barrel) of the main landing gear.

(2) Replace the lower arm link with a new, reidentified lower arm lock link.

(e) For Model A300 B2 and A300 B4 series airplanes, manufacturer's serial numbers 005 through 007 inclusive, 009 through 012 inclusive: Before or concurrently with the requirements of paragraph (b) of this AD, modify the electronic racks, electrical wiring, and cable routing by accomplishing all the actions specified in the Accomplishment Instructions of Airbus Service Bulletin A300-22-031, Revision 1, dated February 9, 1981, per the service bulletin. Modifications accomplished before the effective date of this AD per the original issue of Airbus Service Bulletin A300-22-031, dated June 25, 1979, are acceptable for compliance with this paragraph.

For Model A319, A320, and A321 Series Airplanes: Replacement of Thales Pitot Probes

(f) For Model A319, A320, and A321 series airplanes: Within 24 months after the effective date of this AD: Replace the Thales (formerly Sextant) pitot probes in zones 125, 9DA2, and 122 with new Thales pitot probes, per the Accomplishment Instructions of Airbus Service Bulletin A320-34-1127, Revision 01, dated December 4, 2001. Replacements accomplished before the effective date of this AD per the original issue of Airbus Service Bulletin A320-34-1127, dated April 24, 1997, are acceptable for compliance with this paragraph.

For Model A330-301, -321, -322, -341, and -342 Series Airplanes: Replacement of Rosemount Pitot Probes

(g) Within 30 months after the effective date of this AD, do the action specified in paragraph (g)(1) or (g)(2) of this AD, as applicable.

(1) For Model A330-301, -321, -322, -341, and -342 series airplanes: Replace the Rosemount pitot probes in zones 121 and 122 with new Rosemount (formerly BF Goodrich) pitot probes, per the Accomplishment Instructions of Airbus Service Bulletin A330-34-3038, Revision 01, dated September 14, 2001. Replacements accomplished before the effective date of this AD per Airbus Service Bulletin A330-34-3038, dated November 19, 1996, are acceptable for compliance with the corresponding action required by this paragraph.

(2) For Model A330-301 series airplanes: Replace the Rosemount pitot probes in zones 121 and 122 with new Thales (formerly Sextant) pitot probes, per Airbus Service Bulletin A330-34-3071, Revision 01, dated May 30, 2001. Replacements accomplished before the effective date of this AD per the Accomplishment Instructions of Airbus Service Bulletin A330-34-3071, dated December 11, 1998, are acceptable for compliance with the corresponding action required by this paragraph.

For Model A340-211, -212, -213, -311, -312, and -313 Series Airplanes: Replace the Rosemount Pitot Probes

(h) Within 30 months after the effective date of this AD, do the actions specified in paragraph (h)(1) or (h)(2) of this AD, as applicable.

(1) For Model A340-211, -212, -213, -311, -312, and -313 series airplanes: Replace the Rosemount pitot probes in zones 121 and 122 with new Rosemount (formerly BF Goodrich) pitot probes, per the Accomplishment Instructions of Airbus Service Bulletin A340-34-4042, Revision 01, dated September 14, 2001. Replacements accomplished before the effective date of this AD per Airbus Service Bulletin A340-34-4042, dated November 19, 1996, are acceptable for compliance with the corresponding action required by this paragraph.

(2) For Model A340-211, -212, and -311 series airplanes: Replace the Rosemount pitot probes in zones 121 and 122 with new Thales (formerly Sextant) pitot probes, per the Accomplishment Instructions of Airbus Service Bulletin A340-34-4079, Revision 06, dated April 1, 2003. This replacement must be done before or concurrently with the requirements of paragraph (h)(1) of this AD. Replacements accomplished before the effective date of this AD per Airbus Service Bulletin A340-34-4079, dated December 11, 1998; Revision 01, dated May 27, 1999; Revision 02, dated October 6, 1999; Revision 03, dated March 12, 2002; Revision 04, dated June 19, 2002; or Revision 05, dated July 30, 2002; are acceptable for compliance with the corresponding action required by this paragraph.

Alternative Methods of Compliance

(i) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(j) Special flight permits may be issued in accordance with sections 21.197 and 21.199 of the Federal Aviation Regulations (14 CFR 21.197 and 21.199) to operate the airplane to a location where the requirements of this AD can be accomplished.

Note 3: The subject of this AD is addressed in French airworthiness directives 2001-362(B), dated August 8, 2001; and 2001-265(B) R2, dated November 13, 2002.

Incorporation by Reference

(k) Unless otherwise specified in this AD, the actions shall be done in accordance with the applicable service bulletin listed in Table 2 of this AD. Table 2 of this AD follows:

Table 2.—Service Bulletins Incorporated by Reference
Airbus Service Bulletin | Revision | Date
A300-21-053 | 2 | January 3, 1980.
A300-22-031 | 1 | February 9, 1981.
A300-32-052 | 2 | September 10, 1981.
A300-34-069, as revised by Airbus A300 Service Bulletin Change Notice 5A (dated February 16, 1987) | 5 | April 8, 1982.
A300-34-0166 | Original | March 30, 2001.
A300-34-6116 | 03 | June 6, 2003.
A300-34-6141 | 03 | August 27, 2002.
A310-34-2137 | 03 | June 6, 2003.
A310-34-2154 | 07 | October 8, 2002.
A320-34-1127 | 01 | December 4, 2001.
A330-34-3038 | 01 | September 14, 2001.
A330-34-3071 | 01 | May 30, 2001.
A340-34-4042 | 01 | September 14, 2001.
A340-34-4079 | 06 | April 1, 2003.

Airbus Service Bulletin A300-34-069, Revision 5, contains the following effective pages:

Page Number | Revision level shown on page | Date shown on page
1, 7, 8, 61, 62 | 5 | April 8, 1982.
2 | 4 | October 1, 1981.
3-6, 9-13, 16-21, 26-39, 41-48, 57-60, 63-66, 71, 72 | Original | April 12, 1979.
14, 15, 22, 40, 49-52, 75, 76 | 3 | March 23, 1981.
23, 24, 53-56, 67-70, 73, 74, 77-80 | 1 | March 14, 1980.
25 | 2 | April 10, 1980.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Effective Date

(1) This amendment becomes effective on April 7, 2004.

Issued in Renton, Washington, on February 4, 2004.
Kevin M. Mullin,
Acting Manager, Transport Airplane Directorate, Aircraft Certification Service.

[FR Doc. 04-4513 Filed 3-2-04; 8:45 am]

BILLING CODE 4910-13-P